DEPARTMENT OF AGRICULTURE

Animal and Plant Health Inspection Service

[Docket No. APHIS-2013-0015]

Notice of Request for Extension of Approval of an Information Collection; Importation of Seed and Screenings From Canada Into the United States

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the importation of seed and screenings from Canada into the United States.

DATES: We will consider all comments that we receive on or before June 25, 2013.

ADDRESSES: You may submit comments by either of the following methods:

• Federal eRulemaking Portal: Go to http://www.regulations.gov/#!documentDetail;D=APHIS-2013-0015-0001.

• Postal Mail/Commercial Delivery: Send your comment to Docket No. APHIS-2013-0015, Regulatory Analysis and Development, PPD, APHIS, Station 3A-03.8, 4700 River Road Unit 118, Riverdale, MD 20737-1238.

Supporting documents and any comments we receive on this docket may be viewed at http://www.regulations.gov/#!docketDetail;D=APHIS-2013-0015 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of seed and screenings, contact Ms. Lydia Colón, Regulatory Policy Specialist, PHP, PPQ, APHIS, 4700 River Road Unit 133, Riverdale MD 20737; (301) 851-2302. For copies of more detailed information on the information collection, contact Mrs. Celeste Sickles, APHIS' Information Collection Coordinator, at (301) 851-2908.

SUPPLEMENTARY INFORMATION:

Title: Importation of Seed and Screenings From Canada into the United States.

OMB Number: 0579-0124.

Type of Request: Extension of approval of an information collection.

Abstract: Under the authority of the Federal Seed Act (FSA) of 1939, as amended (7 U.S.C. 1551 et seq.), the U.S. Department of Agriculture (USDA) regulates the importation and interstate movement of certain agricultural and vegetable seeds and screenings. Title III of the FSA, `Foreign Commerce,' requires shipments of imported agricultural and vegetable seeds to be labeled correctly and to be tested for the presence of the seeds of certain noxious weeds as a condition of entry into the United States. The Animal and Plant Health Inspection Service's (APHIS') regulations implementing the provisions of title III of the FSA are found in 7 CFR part 361.

The regulations in 7 CFR part 361, “Importation of Seed and Screenings under the Federal Seed Act” (§§ 361.1 to 361.10, referred to below as the regulations), prohibit or restrict the importation of agricultural seed, vegetable seed, and screenings into the United States. Section 361.7 provides the regulations for special provisions for Canadian-origin seed and screenings, and § 361.8 provides the regulations for the cleaning of imported seed and processing of certain Canadian-origin screenings.

APHIS' Plant Protection and Quarantine (PPQ) program operates a seed analysis program with Canada that allows U.S. companies that import seed for cleaning or processing to enter into compliance agreements with APHIS. This program eliminates the need for sampling shipments of Canadian-origin seed at the U.S.-Canadian border and allows certain seed importers to clean the seed without direct supervision of an APHIS inspector. The program provides a safe and expedited process for the importation of seed and screenings into the United States without posing a plant pest or noxious weed risk.

The seed analysis program involves the use of information collection activities, including a declaration for importation, container labeling, notification of seed location, a seed return request, seed identity maintenance, documentation for U.S. origin exported seed returned to the United States, written appeal for cancellation of a compliance agreement and request for a hearing, and associated recordkeeping. In addition, two forms that are required are the Seed Analysis Certificate (For Canadian-grown seed destined for the United States)(PPQ Form 925) and the USDA, APHIS, PPQ Compliance Agreement (PPQ Form 519).

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.3553 hours per response.

Respondents: Importers of Canadian seed and screenings, seed cleaning/processing facility personnel, and Canadian Food Inspection Agency (CFIA) officials, and private seed laboratories accredited by the CFIA.

Estimated annual number of respondents: 1,168.

Estimated annual number of responses per respondent: 23.099.

Estimated annual number of responses: 26,980.

Estimated total annual burden on respondents: 9,588 hours. (Due to averaging, the total annual burden hours may not equal the product of the annual number of responses multiplied by the reporting burden per response.)

All responses to this notice will be summarized and included in the request for OMB approval. All comments will also become a matter of public record.

Done in Washington, DC, this 22nd day of April 2013.
Kevin Shea,
Acting Administrator, Animal and Plant Health Inspection Service.

[FR Doc. 2013-09911 Filed 4-25-13; 8:45 am]

BILLING CODE 3410-34-P